DEPARTMENT OF THE TREASURY

Submission for OMB Review; Comment Request

April 20, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 30, 2006 to be assured of consideration.

Financial Management Service

OMB Number: 1510-0037.

Type of Review: Extension.

Title: Voucher for Payment of Awards.

Form: FMS form 5135.

Description: Awards certified to Treasury are paid annual as funds are received from foreign governments. Vouchers are mailed to award holders showing payments due. Award holders sign vouchers certifying that he/she is entitled to payment.

Respondents: Individuals or households.

Estimated Total Burden Hours: 700 hours.

Clearance Officer: Jiovannah Diggs, (202) 874-7662, Financial Management Service, Room 144, 3700 East West Highway, Hyattsville, MD 20782.

OMB Reviewer: Alexander T. Hunt, (202) 395-7316, Office of Management and Budget, Room 10235, New Executive Office Building, Washington, DC 20503.

Michael A. Robinson,
Treasury PRA Clearance Officer.

[FR Doc. E6-6316 Filed 4-26-06; 8:45 am]

BILLING CODE 4810-35-P